DEPARTMENT OF VETERANS AFFAIRS

Advisory Committee Charter Renewals

AGENCY: Department of Veterans Affairs.

ACTION: Notice of Advisory Committee charter renewals.

SUMMARY: In accordance with the provisions of the Federal Advisory Committee ACT (FACA) and after consultation with the General Services Administration, the Secretary of Veterans Affairs has determined that the following Federal advisory committee is vital to the mission of the Department of Veterans Affairs (VA) and renewing its charter would be in the public interest. Consequently, the charter for the following Federal advisory committee is renewed for a two-year period, beginning on the dates listed below:

Committee name | Committee description | Charter renewed on
Cooperative Studies Scientific Evaluation Committee | Provides advice on VA cooperative studies, multi-site clinical research activities, and policies related to conducting and managing these efforts and ensures that new and ongoing projects maintain high quality, are based upon scientific merit, and are efficiently and economically conducted | May 14, 2018.
Health Services Research and Development Service Scientific Merit Review Board | Provides advice on the fair and equitable selection of the most meritorious research projects for support by VA research funds; ensures the high quality and mission relevance of VA's legislatively mandated research and development program; advises on the scientific and technical merit, originality, feasibility, and mission relevance of individual research proposals; and advises on the adequacy of protection of human and animal subjects | May 14, 2018.
Joint Biomedical Laboratory Research and Development and Clinical Science Research and Development Services Scientific Merit Review Board | Provides advice on the scientific quality, budget, safety, and mission relevance of investigator-initiated research proposals submitted for VA merit review consideration | May 14, 2018.
Rehabilitation Research and Development Service Scientific Merit Review Board | Provides advice on the fair and equitable selection of the most meritorious research projects for support by VA research funds; provides advice for research program officials on program priorities and policies; and ensures that the VA Rehabilitation and Development program promotes functional independence and improves the quality of life for impaired and disabled Veterans | May 14, 2018.

The Secretary also determined that the following Federal advisory committee is vital to VA and reestablished its charter:

Committee name | Committee description | Charter renewed on
Department of Veterans Affairs Voluntary Service National Advisory Committee | Provides advice on how to coordinated and promote volunteer activities within VA health care facilities | March 7, 2019.

The Secretary has also renewed the charter for the following statutorily authorized Federal advisory committee for a two-year period, beginning on the date listed below:

Committee name | Committee description | Charter renewed on
Advisory Committee on Former Prisoners of War | Provides advice on the administration of benefits for Veterans who are former prisoners of war, their survivors, and the needs of such Veterans and their families in the areas of service-connected compensation, dependency and indemnification compensation, health care, and rehabilitation | June 21, 2018.
Geriatrics and Gerontology Advisory Committee | Provides advice on all matters pertaining to geriatrics and gerontology | July 16, 2018.
Research Advisory Committee on Gulf War Veterans' Illnesses | Provides advice on proposed research studies, research plans, or research strategies relating to the health effects of military service in Southwest Asia during Gulf War | January 30, 2019.
Advisory Committee on Structural Safety of Department of Veterans Affairs Facilities | Provides advice on structural safety in the construction and remodeling of VA facilities, and to recommend standards for use by VA in the construction and alteration of facilities | March 12, 2019.
Veterans' Advisory Committee on Education | Provides advice on the administration of education and training programs for Veterans and Servicepersons, Reservists, and dependents of Veterans under Chapters 30, 32, 35, and 36 of Title 38, and Chapter 1606 of Title 10, United States Code | March 12, 2019.
National Research Advisory Council | Provides advice on research and development sponsored and/or conducted by the Veterans Health Administration, to include policies and programs of the Office of Research and Development | May 14, 2019.
Veterans' Family, Caregiver, and Survivor Advisory Committee | Provides advice related to Veterans' families, caregivers, and survivors across all generations, relationships, and Veteran status; the use of VA care and benefits services by Veterans' families, caregivers, and survivors, and possible expansion of such are and benefits services; Veterans' family, caregiver, and survivor experiences, and VA policies, regulations, and administrative requirements related to the transition of Service members from the Department of Defense to enrollment in VA that impact Veterans' families, caregivers, and survivors; and factors that influence access to, quality of, and accountability for services and benefits for Veterans' family, caregivers, and survivors | May 15, 2019.

FOR FURTHER INFORMATION CONTACT: Jeffrey Moragne, Committee Management Office, Department of Veterans Affairs, Advisory Committee Management Office (00AC), 810 Vermont Avenue NW, Washington, DC 20420; telephone (202) 266-4660; or email at Jeffrey.Moragne@va.gov. To view a copy of a VA Federal advisory committee charters, please visit http://www.va.gov/advisory.

Dated: June 3, 2019.
Jelessa M. Burney,
Federal Advisory Committee Management Officer.

[FR Doc. 2019-11867 Filed 6-5-19; 8:45 am]

BILLING CODE P